DEPARTMENT OF VETERANS AFFAIRS

[OMB Control No. 2900-0118]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before August 6, 2001.

FOR FURTHER INFORMATION OR A COPY OF THE SUBMISSION CONTACT: Denise McLamb, Information Management Service (045A4), Department of Veterans Affairs, 810 Vermont Avenue, NW., Washington, DC 20420, (202) 273-8015, FAX (202) 273-5981 or denise.mclamb@mail.va.gov. Please refer to “OMB Control No. 2900-0118.”

SUPPLEMENTARY INFORMATION: Title: Transfer of Scholastic Credit (Schools), VA Form Letter 22-315.

OMB Control Number: 2900-0118.

Type of Review: Extension of a currently approved collection.

Abstract: When a student receiving VA education benefits is enrolled at two training institutions, the institution at which the student pursues his or her approved program of education must verify that courses pursued at a second or supplemental institution will be accepted at full credit toward the student's course objective. Educational payment for courses pursued at the second institution are not payable unless evidence is received to verify that the student is pursuing his or her approved program while enrolled in these courses. VA Form Letter 22-315 serves as this certification of acceptance.

An agency may not conduct or sponsor, and a person is not required to respond to a collection of information unless it displays a currently valid OMB control number. The Federal Register Notice with a 60-day comment period soliciting comments on this collection of information was published on March 8, 2001, at pages 13999—14000.

Affected Public: State, Local or Tribal Government and Not-for-profit institutions.

Estimated Annual Burden: 3,433 hours.

Estimated Average Burden Per Respondent: 10 minutes.

Frequency of Response: On occasion.

Estimated Number of Respondents: 20,600.

Send comments and recommendations concerning any aspect of the information collection to VA's OMB Desk Officer, OMB Human Resources and Housing Branch, New Executive Office Building, Room 10235, Washington, DC 20503 (202) 395-7316. Please refer to “OMB Control No. 2900-0118” in any correspondence.

Dated: June 18, 2001.
By direction of the Secretary.
Donald L. Neilson,
Director, Information Management Service.

[FR Doc. 01-16828 Filed 7-3-01; 8:45 am]

BILLING CODE 8320-01-P